DEPARTMENT OF THE INTERIOR

Fish and Wildlife Service

Notice of Availability of the Final Comprehensive Conservation Plan, Finding of No Significant Impact, and Summary for Sacramento River National Wildlife Refuge, Tehama, Butte, Glenn and Colusa Counties, CA

AGENCY: Fish and Wildlife Service.

ACTION: Notice of availability.

SUMMARY: The Sacramento River National Wildlife Refuge Final Comprehensive Conservation Plan (CCP), Finding of No Significant Impact (FONSI), and Summary are available for distribution. The CCP, prepared pursuant to the National Wildlife Refuge System Administration Act as amended, and in accordance with the National Environmental Policy Act of 1969, describes how the Service will manage the Refuge for the next 15 years. The compatibility determinations for hunting, fishing, wildlife observation and photography, environmental education and interpretation, research, camping and recreational boating, farming, grazing and mosquito control are also available with the CCP.

DATES: The Final CCP and FONSI are available now. The FONSI was signed on March 21, 2005. Implementation of the CCP will begin immediately.

ADDRESSES: Copies of the Final CCP, FONSI, and Summary may be obtained by writing to the U.S. Fish and Wildlife Service, Attn: Jackie Ferrier, Refuge Planner, Sacramento National Wildlife Refuge Complex, 752 County Road 99W, Willows, California 95988. Copies of these documents may be viewed at this address. The Final CCP, FONSI and Summary are also available online for viewing and downloading at http://pacific.fws.gov/planning or http://sacramentovalleyrefuges.fws.gov.

FOR INFORMATION CONTACT: Jackie Ferrier, Refuge Planner, Sacramento National Wildlife Refuge Complex, 752 County Road 99W, Willows, California 95988; telephone 530-934-2801; fax 530-934-7814.

SUPPLEMENTARY INFORMATION:

Background

The Refuge was established in 1989 by the authority provided under the Endangered Species Act of 1973, the Fish and Wildlife Act of 1956, and the Emergency Wetlands Resources Act of 1986, using funds made available through the Land and Water Conservation Fund Act of 1965. Sacramento River Refuge is part of the Sacramento National Wildlife Refuge Complex located in the Sacramento Valley of north-central California. The Refuge is located along both banks of the Sacramento River between Red Bluff and Princeton, California, in Glenn, Butte, and Tehama Counties. The 10,304-acre Refuge is managed to maintain, enhance and restore habitats for threatened and endangered species, migratory birds, anadromous fish and native fish, wildlife, and plants.

The availability of the Draft CCP and Environmental Assessment (EA) for a 45-day public review and comment period was published in the Federal Register on Tuesday, June 29, 2004, in volume 69, number 124. The Draft CCP/EA identified and evaluated three alternatives for managing the Refuge for the next 15 years. Alternative A was the no-action alternative which described current Refuge management activities. Alternative B, the selected alternative, will continue to emphasize restoration for migratory birds and threatened and endangered species. The Refuge will be open for wildlife dependent public uses and management programs will be expanded. Alternative C would accelerate habitat restoration and maximize public use and is similar to Alternative B except the agricultural program would end immediately and hunting would be allowed on larger percentage of the Refuge.

The Service received 1,187 comment letters on the Draft CCP and EA. The comments were incorporated into the CCP when appropriate, and are otherwise addressed in an appendix to the CCP. Alternative B was selected for implementation and is the basis for the Final CCP.

Under Alternative B, the focus of the Refuge will be to continue to restore and maintain riparian habitat for threatened and endangered species, migratory birds, anadromous and native fish, wildlife, and plants. The Refuge will use active and passive management practices to achieve and maintain full restoration/enhancement of all units (5,855 acres) where appropriate, as funding becomes available. The agricultural program will be phased out as restoration funding becomes available. Under Alternative B, the Service will improve and expand visitor services with a focus on a balance of priority public use opportunities distributed throughout the entire Refuge. New visitor services projects under this alternative include: developing interpretive kiosks, creating a new refuge brochure, and constructing walking trails and parking facilities on vehicle accessible units. Hunting opportunities will increase under Alternative B. Approximately 52 percent of the Refuge will be opened to hunting dove, waterfowl, coot, common moorhen, pheasant, quail, snipe, turkey, and deer. Hunting will be limited to shotgun or archery only. Twenty-three riverbank miles and seasonally submerged areas will be opened to sport fishing consistent with State regulations. Camping will be allowed on gravels bars below the ordinary high water mark.

This alternative was selected for implementation because it includes needed improvements in migratory bird and special status species management and makes an important contribution to regional biodiversity. It also provides a balanced mix of compatible wildlife-dependant recreation opportunities to meet the growing demand in the region. Implementation of this alternative will require additional staff and funding.

Dated: July 27, 2005.
Steve Thompson,
Manager, California/Nevada Operations Office, Sacramento, California.

[FR Doc. 05-15281 Filed 8-2-05; 8:45 am]

BILLING CODE 4310-55-P